FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR Part 515, effective on the corresponding date shown below:

License Number: 016594NF.

Name: Asean Logistics, Inc.

Address: 2400 West Carson Street, Suite 220, Torrance, CA 90501.

Date Revoked: April 19, 2007.

Reason: Failed to maintain valid bonds.

License Number: 020119F.

Name: Express Forwarding, Inc.

Address: 12738 N. Florida Avenue, Tampa, FL 33612.

Date Revoked: April 19, 2007.

Reason: Failed to maintain a valid bond.

License Number: 003268F.

Name: Rialto International, Inc. dba Rialto Ocean Express.

Address: 4636 East Marginal Way South, Ste. 201, Seattle, WA 98134.

Date Revoked: March 31, 2007.

Reason: Failed to maintain a valid bond.

Sandra L. Kusumoto,
Director, Bureau of Certification and Licensing.

[FR Doc. E7-8380 Filed 5-1-07; 8:45 am]

BILLING CODE 6730-01-P